DEPARTMENT OF ENERGY

Federal Energy Regulatory Commission

Combined Notice of Filings #2

Take notice that the Commission received the following electric rate filings:

Docket Numbers: ER17-577-000.

Applicants: Rock River I, LLC.

Description: Amendment to December 19, 2016 Rock River I, LLC tariff filing (Category 1 Seller Status in the Northwest Region).

Filed Date: 1/17/17.

Accession Number: 20170117-5321.

Comments Due: 5 p.m. ET 2/7/17.

Docket Numbers: ER17-843-000.

Applicants: Southern California Edison Company.

Description: § 205(d) Rate Filing: GIA & DSA Green Beanworks C Project SA Nos. 933 & 934 to be effective 1/25/2017.

Filed Date: 1/24/17.

Accession Number: 20170124-5068.

Comments Due: 5 p.m. ET 2/14/17.

Docket Numbers: ER17-844-000.

Applicants: Indiana Michigan Power Company, PJM Interconnection, L.L.C.

Description: § 205(d) Rate Filing: AEP submits Original CIAC, SA No. 4613 between NIPSCO and Indiana Michigan Power to be effective 1/25/2017.

Filed Date: 1/24/17.

Accession Number: 20170124-5072.

Comments Due: 5 p.m. ET 2/14/17.

Docket Numbers: ER17-845-000.

Applicants: Indiana Michigan Power Company, PJM Interconnection, L.L.C.

Description: § 205(d) Rate Filing: AEP submits Original CIAC, SA No. 4614 between NIPSCO and AEP I-M Transmission to be effective 1/25/2017.

Filed Date: 1/24/17.

Accession Number: 20170124-5075.

Comments Due: 5 p.m. ET 2/14/17.

Docket Numbers: ER17-846-000.

Applicants: Southern California Edison Company.

Description: § 205(d) Rate Filing: GIA & DSA Green Beanworks D Project SA Nos. 935 & 936 to be effective 1/25/2017.

Filed Date: 1/24/17.

Accession Number: 20170124-5088.

Comments Due: 5 p.m. ET 2/14/17.

Docket Numbers: ER17-847-000.

Applicants: California Independent System Operator Corporation.

Description: § 205(d) Rate Filing: 2017-01-24 Transition From T+35M to T+33M Amendment to be effective 5/3/2017.

Filed Date: 1/24/17.

Accession Number: 20170124-5126.

Comments Due: 5 p.m. ET 2/14/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2017.
Nathaniel J. Davis, Sr.,
Deputy Secretary.

[FR Doc. 2017-01940 Filed 1-27-17; 8:45 am]

BILLING CODE 6717-01-P